POSTAL SERVICE BOARD OF GOVERNORS

Sunshine Act Meeting

TIMES AND DATES: 1 p.m., Monday, November 4, 2002; 8:30 a.m., Tuesday, November 5, 2002.

PLACE: Washington, DC, at U.S. Postal Service Headquarters, 475 L'Enfant Plaza, SW., in the Benjamin Franklin Room.

STATUS: November 4—1 p.m. (Closed); November 5—8:30 a.m. (Open).

MATTERS TO BE CONSIDERED:

Monday, November 4-1 p.m. (Closed)

1. Financial Performance.

2. Strategic Planning.

3. Personnel Matters and Compensation Issues.

Tuesday, November 5-8:30 a.m. (Open)

1. Minutes of the Previous Meeting, October 7-8, 2002.

2. Remarks of the Postmaster General and CEO.

3. Quarterly Report on Service Performance.

4. Capital Investments.

a. Flats Sequencing System and Delivery Point Packager.

b. Surface-Air Support System Modification Request and Enterprise Data Warehouse—Network Operations Management.

c. Point of Service (POS) One—Stage 3.

5. Tentative Agenda for the December 9-10, 2002, meeting in Washington, DC.

Contact Person for More Information: William T. Johnstone, Secretary of the Board, U.S. Postal Service, 475 L'Enfant Plaza, SW., Washington, DC 20260-1000. Telephone (202) 268-4800.

William T. Johnstone,
Secretary.

[FR Doc. 02-27619 Filed 10-25-02; 2:45 pm]

BILLING CODE 7710-12-M